DEPARTMENT OF THE INTERIOR

Bureau of Land Management

[CO-921-07-1320-EL; COC-70615]

Notice of Public Meeting, To Receive for Comments on an Environmental Analysis, Finding of No Significant Impact, Maximum Economic Recovery Report, and Fair Market Value for Coal Lease Application COC-70615

AGENCY: Bureau of Land Management, Interior.

ACTION: Notice of correction.

SUMMARY: The Bureau of Land Management published a Notice of Federal Competitive Coal Lease Sale Offer in the Federal Register on May 28, 2009 [74 FR 101]. The Legal Description should read as follows:

T. 13 S., R. 90 W., 6th P.M., Sections 3, 4, 5, more particularly described as follows:

Beginning at a point on the North Section line at the Section Corner common to Sections 4 and 5; thence S.87 degrees 22′08″E. 5291.34 feet; thence S.87 degrees 32′05″E. 1604.94 feet; thence S.0 degrees 04′31″W. 4246.44 feet; thence N.86 degrees 45′23″W. 1558.38 feet; thence N.84 degrees 12′17″W. 5148.60 feet; thence N.86 degrees 44′37″W. 1321.91 feet; to the existing lease line for Coal lease COC-61357; thence along said existing lease line N.10 degrees 00′13″W. 1382.68 feet; thence N.86 degrees 08′20″W. 390.65 feet; thence N.00 degrees 1135.85 feet; to the southeasterly boundary of Tract 4; thence N.14 degrees 36′45″ E. 1463.19 feet; along said southeasterly boundary of Tract 4; thence S.87 degrees 18′59″E. 1375.63 feet; along the north section line of section 5 to the Point of beginning.

Containing approximately 785.79 acres more or less, in Gunnison County, Colorado.

FOR FURTHER INFORMATION CONTACT: Kurt Barton at BLM Colorado State Office, 2850 Youngfield Street, Lakewood, Colorado 80215, or by telephone 303-239-3714.

Dated: June 8, 2009.
Kurt M. Barton,
Solid Minerals LLE, Division of Energy, Lands and Minerals.

[FR Doc. E9-13846 Filed 6-11-09; 8:45 am]

BILLING CODE 4310-JB-P